DEPARTMENT OF DEFENSE

Office of the Secretary

[Transmittal No. 24-46]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-46, Policy Justification, and Sensitivity of Technology.

Dated: December 9, 2025.
Stephanie J. Bost,
Alternate OSD Federal Register Liaison Officer, Department of Defense.

BILLING CODE 6001-FR-P

BILLING CODE 6001-FR-C

Transmittal No. 24-46

Notice of Proposed Issuance of Letter of Offer Pursuant to Section 36(b)(1) of the Arms Export Control Act, as amended

(i) Prospective Purchaser: Kingdom of Saudi Arabia

(ii) Total Estimated Value:

Major Defense Equipment * | $192.4 million
Other | $ 59.4 million
TOTAL | $251.8 million

Funding Source: National Funds

(iii) Description and Quantity or Quantities of Articles or Services under Consideration for Purchase:

Major Defense Equipment (MDE):

Two-hundred twenty (220) AIM-9X Block II Sidewinder Tactical Missiles

Non-MDE:

Also included are missile containers; support equipment; spares; missile software; training; United States (U.S.) Government and contractor technical assistance; and other related elements of logistics and program support.

(iv) Military Department: Navy (SR-P-ACD)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: October 11, 2024

* as defined in Section 47(6) of the Arms Export Control Act.

POLICY JUSTIFICATION

Kingdom of Saudi Arabia—AIM-9X Block II Sidewinder Missiles

The Kingdom of Saudi Arabia has requested to buy two-hundred twenty (220) AIM-9X Block II Sidewinder Tactical Missiles. Also included are missile containers; support equipment; spares; missile software; training; and U.S. Government and contractor technical assistance; and other related elements of logistics and program support. The estimated total cost is $251.8 million.

This proposed sale will contribute to the foreign policy and national security objectives of the U.S. by ensuring the readiness of a friendly country that continues to be an important force for political stability and economic growth in the Middle East.

The proposed sale will improve the Kingdom of Saudi Arabia's capability to meet current and future threats, provide increased air defense capabilities, and support conducting self-defense and regional security missions in the Middle East. Saudi Arabia will have no difficulty absorbing this equipment into its armed forces.

The proposed sale of this equipment and support will not alter the basic military balance in the region.

The principal contractor will be RTX Corporation, located in Arlington, VA. There are no known offset agreements proposed in connection with this potential sale.

Implementation of this proposed sale will require the assignment of three U.S. Government and two to four contractor representatives annually to Saudi Arabia for a period of one week. However, ad hoc travel may be required for engineering and other support.

There will be no adverse impact on U.S. defense readiness as a result of this proposed sale.

Transmittal No. 24-46

Notice of Proposed Issuance of Letter of Offer Pursuant to Section 36(b)(1) of the Arms Export Control Act

Annex

Item No. vii

(vii) Sensitivity of Technology:

1. The AIM-9X Block II Sidewinder Missile represents a substantial increase in performance over the AIM-9M and replaces the AIM-9X Block I Missile configuration. The missile includes a high off-boresight seeker, enhanced countermeasure rejection capability, low drag and high angle of attack airframe, and the ability to integrate the Helmet Mounted Cueing System. The most current AIM-9X Block II Operational Flight Software developed for all International Partner countries, which is authorized by U.S. Government export policy, provides fifth-generation infrared missile capabilities such as Lock-On-After-Launch, Weapons Data Link, Surface Attack, and Surface Launch. No software source code or algorithms will be released.

2. The highest level of classification of defense articles, components and services included in this potential sale is SECRET.

3. If a technologically advanced adversary were to obtain knowledge of the specific hardware and software elements, the information could be used to develop countermeasures that might reduce weapon system effectiveness or be used in the development of a system with similar or advanced capabilities.

4. A determination has been made that the Kingdom of Saudi Arabia can provide substantially the same degree of protection for the sensitive technology being released as the U.S. Government. This sale is necessary in furtherance of the U.S. foreign policy and national security objectives outlined in the Policy Justification.

5. All defense articles and services listed in this transmittal have been authorized for release and export to the Kingdom of Saudi Arabia.

[FR Doc. 2025-22600 Filed 12-11-25; 8:45 am]

BILLING CODE 6001-FR-P